DEPARTMENT OF HEALTH AND HUMAN SERVICES

Indian Health Service

Medical Professionals Recruitment and Continuing Education Program; Correction

AGENCY: Indian Health Service, HHS.

ACTION: Notice; correction.

SUMMARY: The Indian Health Service published a document in the Federal Register on April 27, 2016, for the Fiscal Year 2016 Medical Professionals Recruitment and Continuing Education Program. The notice contained incorrect dates.

FOR FURTHER INFORMATION CONTACT: Dr. Susan Karol, Chief Medical Officer, 5600 Fishers Lane, Mail Stop: 08E53, Rockville, MD 20857, Telephone 301-443-1083. (This is not a toll-free number.)

Correction

In the Federal Register of April 27, 2016, in FR Doc. 2016-09812, the following corrections are made:

1. On page 24828, in the first column, under the heading “Key Dates”, the correct Earliest Anticipated Start Date should read as “Earliest Anticipated Start Date: August 15, 2016”.

2. On page 24829, in the first column, under the heading “Project Period”, the correct paragraph should read as “The project period will be for three (3) years and will run consecutively from August 15, 2016 to August 14, 2019”.

Dated: May 11, 2016.
Elizabeth A. Fowler,
Deputy Director for Management Operations, Indian Health Service.

[FR Doc. 2016-12303 Filed 5-24-16; 8:45 am]

BILLING CODE 4165-16-P